NUCLEAR REGULATORY COMMISSION

10 CFR Part 72

RIN 3150-AI75

[NRC-2009-0538]

List of Approved Spent Fuel Storage Casks: NUHOMS® HD System Revision 1; Correction

AGENCY: Nuclear Regulatory Commission.

ACTION: Proposed rule; correction.

SUMMARY: This document corrects a notice appearing in the Federal Register on May 7, 2010 (75 FR 25120), that proposes to amend the regulations that govern storage of spent nuclear fuel. Specifically, this proposed amendment would be to the list of approved spent fuel storage casks to add revision 1 to the NUHOMS HD spent fuel storage cask system. This action is necessary to correctly specify the date by which comments must be received, because the notice of direct final rulemaking (75 FR 24786; May 6, 2010), and the companion notice of proposed rulemaking were published in the Federal Register on different dates instead of being published concurrently on the same date, as erroneously stated in the notices.

FOR FURTHER INFORMATION CONTACT: Jayne M. McCausland, Office of Federal and State Materials and Environmental Management Programs, U.S. Nuclear Regulatory Commission, Washington, DC 20555-0001, telephone (301) 415-6219, e-mail Jayne.McCausland@nrc.gov.

SUPPLEMENTARY INFORMATION: On page 25120, in the third column, the fifth full paragraph is corrected to read as follows: For additional information, see the Direct Final Rule published in the Rules and Regulations section of the Federal Register on May 6, 2010 (75 FR 24786). Also, on page 25121, in the first column, the eighth full paragraph is corrected to read as follows: For additional procedural information and the regulatory analysis, see the direct final rule published in the Rules and Regulations section of the Federal Register on May 6, 2010 (75 FR 24786).

Dated at Rockville, Maryland, this 10th day of May 2010.
For the Nuclear Regulatory Commission.
Helen Chang,
Acting Chief, Rules, Announcements and Directives Branch Division of Administrative Services, Office of Administration.

[FR Doc. 2010-11562 Filed 5-14-10; 8:45 am]

BILLING CODE 7590-01-P